DEPARTMENT OF TRANSPORTATION

Federal Railroad Administration

[Docket Number FRA-2009-0086]

Petition for Waiver of Compliance; Notice of Petition for Statutory Exemption

In accordance with 49 U.S.C. 21102(b), the American Short Line and Regional Railroad Association (ASLRRA), on behalf of its members, has petitioned the Federal Railroad Administration (FRA) for an exemption from certain provisions of the hours of service laws (HSL) (49 U.S.C. Chapter 211). Specifically, ASLRRA has requested an exemption from the requirements of 49 U.S.C. 21103(a)(1) and 49 U.S.C. 21103(a)(4)(a) for certain of its member railroads that have 15 or less employees covered by the HSL.

ASLRRA notes that its petition for exemption in this docket is related to its waiver petition in Docket Number FRA-2009-0078, except that its exemption request is limited to certain member railroads that have 15 or less employees covered by the HSL. In its waiver petition, ASLRRA seeks a waiver of the statutory requirement contained in 49 U.S.C. 21103(a)(1), limiting train employees to 276 hours per calendar month for member railroads' management employees who perform limited service as train employees for not more than 25% of their monthly hours in the service to the railroads. In its waiver petition, ASLRRA also seeks relief from 49 U.S.C. 21103(a)(4)(a), which requires railroads to provide train employees 48 hours of rest after an employee has initiated an on-duty period on 6 consecutive days and 72 hours of rest after an employee has initiated an on-duty period on 7 consecutive days. In its petition for exemption in this docket, ASLRRA further notes that the railroads that are the subject of its exemption request are the “smallest of the small railroads.” ASLRRA further expresses the view that in 49 U.S.C. 21102(b), “Congress granted FRA the broad power simply to exempt these small carriers” from the HSL. The entire ASLRRA petition may be reviewed online at http://www.regulations.gov under Docket Number FRA-2009-0086.

As ASLRRA notes in its petition, 49 U.S.C. 21102(b) provides that the Secretary of Transportation (Secretary) may, with certain limitations, exempt a railroad carrier having not more than 15 employees covered by the HSL from the requirements of Chapter 211. Specifically, 49 U.S.C. 21102(b) provides that the Secretary may allow the exemption after a full hearing, for good cause shown, and on deciding that the exemption is in the public interest and will not affect safety adversely. The exemption must be for a specific period of time and subject to review at least annually. This authority is delegated to FRA pursuant to 49 CFR 1.49.

Interested parties are invited to participate in these proceedings by submitting written views, data, or comments. FRA does not anticipate scheduling a public hearing in connection with these proceedings, however, if any interested party desires an opportunity for oral comment, they should notify FRA, in writing, before the end of the comment period and FRA will provide such an opportunity.

All communications concerning these proceedings should identify the appropriate docket number (e.g., Docket Number FRA-2009-0086) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on January 28, 2010.
Grady C. Cothen, Jr.,
Deputy Associate Administrator for Safety Standards and Program Development.

[FR Doc. 2010-2246 Filed 2-2-10; 8:45 am]

BILLING CODE 4910-06-P